DEPARTMENT OF THE INTERIOR

Minerals Management Service

Environmental Assessment Prepared for Proposed Cape Wind Energy Project in Nantucket Sound, MA

AGENCY: Minerals Management Service (MMS), Interior.

ACTION: Notice of the Availability of an Environmental Assessment (EA) and Draft Finding of No New Significant Impact (FONNSI) for Public Review and Comment.

SUMMARY: The Minerals Management Service (MMS), in accordance with Federal regulations that implement the National Environmental Policy Act (NEPA), announces the availability for public review and comment of an EA and Draft FONNSI prepared by MMS for the Cape Wind Energy Project proposed for Nantucket Sound, Massachusetts. On January 16, 2009, the MMS announced the release of the Final Environmental Impact Statement (FEIS) for the Cape Wind Energy Project. The FEIS assessed the physical, biological, and social/human impacts of the proposed project and 13 alternatives, including a no-action alternative (i.e., the project is not built), and proposed mitigation.

The MMS has identified new information that has become available since the publication of the FEIS in January 2009 that pertains to the proposed project, the feasibility of alternatives to the proposed project, and to some of the resources that were analyzed in the FEIS. The MMS used an environmental assessment (EA) to determine whether it needs to supplement its existing analysis under the National Environmental Policy Act (NEPA). This EA, in accordance with CEQ regulations (40 CFR 1501.3(b) and 40 CFR 1502.9), examines whether the new information indicates that there have been “substantial changes in the proposed action” or “significant new circumstances or information” that either were not fully discussed or did not exist at the time the FEIS was prepared that are relevant to environmental concerns and have a bearing on the proposed action or its impacts. MMS researched and reviewed new information obtained from the scientific/technical literature, government reports and actions, intergovernmental coordination and communications, required consultations, and comments made during two comment periods offered after the FEIS was circulated to determine if any assumptions, data or analysis related to resources should be reevaluated or if the new information would alter conclusions of the FEIS. This includes new information in the January 13, 2010, MMS Documentation of Section 106 Finding of Adverse Effect (Revised) (Revised Finding), and the comments received during a comment period on this document. No new information was found that would necessitate a reanalysis of range of the alternatives or the kinds, levels or locations of the impacts by the Proposed Action upon biologic, physical, socioeconomic or cultural resources. The analyses, potential impacts, and conclusions detailed in the FEIS remain applicable and unchanged. Therefore, MMS has determined that a supplemental EIS is not required and proposes to issue the attached FONNSI. MMS seeks public comment on the analysis, findings and conclusions in the proposed EA and Draft FONNSI.

DATES: The comment period for the EA/Draft FONNSI document closes April 7, 2010.

FOR FURTHER INFORMATION CONTACT: James F. Bennett, Chief, Environmental Assessment Branch, Minerals Management Service, 381 Elden Street MS-4042, Herndon, Virginia 20170.

SUPPLEMENTARY INFORMATION:

Cape Wind Energy Project Description

In November 2001, Cape Wind Associates, LLC, applied for a permit from the U.S. Army Corps of Engineers (USACE) under the Rivers and Harbors Act of 1899 to construct an offshore wind power facility on Horseshoe Shoal in Nantucket Sound, Massachusetts. Following the adoption of the Energy Policy Act of 2005 (EPAct) and its associated amendments to the Outer Continental Shelf Lands Act (OCSLA), the Department of the Interior was given statutory authority to issue leases, easements, or rights-of-way for renewable energy projects on the Outer Continental Shelf (OCS). Accordingly, Cape Wind Associates, LLC, submitted an application to MMS in 2005 to construct, operate, and eventually decommission an offshore wind power facility on Horseshoe Shoal in Nantucket Sound, Massachusetts. The project calls for 130, 3.6± megawatt (MW) wind turbine generators, each with a maximum blade height of 440 feet, to be arranged in a grid pattern in 25 square miles of Nantucket Sound, offshore of Cape Cod, Martha's Vineyard, and Nantucket Island. With a maximum electric output of 468 megawatts and an average anticipated output of 182 megawatts, the facility is projected to generate up to three-quarters of the Cape and Islands' electricity needs. Each of the 130 wind turbine generators would generate electricity independently. Solid dielectric submarine inner-array cables (33 kilovolt) from each wind turbine generator would interconnect within the array and terminate on an electrical service platform, which would serve as the common interconnection point for all of the wind turbines. The proposed submarine transmission cable system (115 kilovolt) from the electric service platform to the landfall location in Yarmouth is approximately 12.5 miles in length (7.6 miles of which falls within Massachusetts' territorial waters).

Nantucket Sound is a roughly triangular body of water generally bound by Cape Cod, Martha's Vineyard, and Nantucket Island. Open bodies of water include Vineyard Sound to the West and the Atlantic Ocean to the East and the South. Nantucket Sound encompasses between 500-600 square miles of ocean, most of which lies in Federal waters. The Cape Wind Energy Project would be located completely on the OCS in Federal waters, aside from transmission cables running through Massachusetts waters ashore. For reference, the northernmost turbines would be approximately 5.2 miles (8.4 km) from Point Gammon on the mainland; the southernmost turbines would be approximately 11 miles (17.7 km) from Nantucket Island (Great Point); and the westernmost turbines would be approximately 5.5 miles (8.9 km) from the island of Martha's Vineyard (Cape Poge).

Public Comment Procedures: The EA can be accessed online at: http://www.mms.gov/offshore/RenewableEnergy/CapeWind.htm. Comments on the EA and FONNSI should be mailed or hand carried to the Minerals Management Service, Attention: James F. Bennett, 381 Elden Street, Mail Stop 4042, Herndon, Virginia 20170-4817. Envelopes or packages should be marked “Cape Wind Energy Project Environmental Assessment Document.” The MMS will also accept comments submitted electronically through the Web page at Federal eRulemaking Portal: http://www.regulations.gov. In the entry titled “Enter Keyword or ID,” enter docket ID MMS-2010-OMM-0006, then click “Search.” Under the tab “View By Docket Folder” you can submit public comments for this EA. The MMS will post all comments.

Public Comment Procedures: Before including your address, phone number, e-mail address, or other personal identifying information in your comment, you should be aware that your entire comment—including your personal identifying information—may be made publicly available at any time. While you can ask us in your comment to withhold your personal identifying information from public review, we cannot guarantee that we will be able to do so.

Dated: March 3, 2010.
L. Renee Orr,
Acting Associate Director for Offshore Energy and Minerals Management.

[FR Doc. 2010-4926 Filed 3-4-10; 11:15 am]

BILLING CODE 4310-MR-P